DEPARTMENT OF EDUCATION

The Historically Black Colleges and Universities Capital Financing Advisory Board

AGENCY: U.S. Department of Education, the Historically Black Colleges and Universities Capital Financing Board.

ACTION: Announcement of an open meeting.

SUMMARY: This notice sets forth the schedule and proposed agenda of an upcoming open meeting of the Historically Black Colleges and Universities Capital Financing Advisory Board (Board). The notice also describes the functions of the Board. Notice of this meeting is required by Section 10(a)(2) of the Federal Advisory Committee Act and is intended to notify the public of their opportunity to attend.

DATES: The Board meeting will be held on Monday, May 18, 2015 10:00 a.m.-2:00 p.m., Central Time at Xavier University of Louisiana, The Convocation Annex, 7800 Washington Avenue, New Orleans, LA 70125.

FOR FURTHER INFORMATION CONTACT: Donald E. Watson, Executive Director/Designated Federal Official, Historically Black College and University Capital Financing Program, 1990 K Street NW., Room 6040, Washington, DC 20006-8513. Telephone: (202) 219-7037 or by email: donald.watson@ed.gov.

SUPPLEMENTARY INFORMATION: The Historically Black College and University Capital Financing Advisory Board's Statutory Authority and Function: The Historically Black College and University Capital Financing Advisory Board is authorized by Title III, Part D, Section 347, of the Higher Education Act of 1965, as amended in 1998 (20 U.S.C. 1066f). The Board is established within the U.S. Department of Education to provide advice and counsel to the Secretary and the designated bonding authority as to the most effective and efficient means of implementing construction financing on historically Black college and university campuses and to advise Congress regarding the progress made in implementing the program. Specifically, the Board will provide advice as to the capital needs of Historically Black Colleges and Universities, how those needs can be met through the program, and what additional steps might be taken to improve the operation and implementation of the construction financing program.

Meeting Agenda: The purpose of this meeting is to update the Board on current activities, set future meeting dates, and for the Board to make recommendations to the Secretary on the current capital needs of Historically Black Colleges and Universities.

There will be an opportunity for public comment regarding the Board's activities on Friday, May 18, 2015, between 1:15 p.m.-1:45 p.m. Please be advised that comments cannot exceed five (5) minutes. Members of the public interested in submitting written comments may do so by submitting comments to the attention of Don E. Watson, 1990 K Street NW., Washington, DC, by Monday, May 11, 2015. Comments should pertain to the work of the Board and or the HBCU Capital Financing Program.

Access to Records of the Meeting: Pursuant to FACA requirements, the public may also inspect the meeting materials at http://www2.ed.gov/about/bdscomm/list/hbcu-finance.html on Friday, July 17, 2015 by 9:00 a.m. ET. The official verbatim transcripts of the public meeting sessions will be available for public inspection no later than 60 calendar days following the meeting.

Reasonable Accommodations: The meeting site is accessible to individuals with disabilities. If you will need an auxiliary aid or service to participate in the meeting (e.g., interpreting service, assistive listening device, or materials in an alternate format), notify the contact person listed in this notice at least one week before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: Title III, Part D, Section 347, of the Higher Education Act of 1965, as amended in 1998 (20 U.S.C. 1066f).

Jamienne S. Studley,
Deputy Under Secretary.

[FR Doc. 2015-10596 Filed 5-5-15; 8:45 am]

BILLING CODE P